DEPARTMENT OF TRANSPORTATION

Surface Transportation Board

[STB Finance Docket No. 34666]

Columbus and Greenville Railway Company—Acquisition and Operation Exemption—Line of City of Greenwood, MS

Columbus and Greenville Railway Company (C&G), a Class III rail carrier, has filed a verified notice of exemption under 49 CFR 1150.41 to acquire from the City of Greenwood (City) and operate approximately 2.99 miles of newly constructed bypass rail line, extending from C&G milepost 113.59 to C&G milepost 116.57, in Leflore County, MS.¹

¹ C&G's main line runs through the City. C&G intends to file for abandonment authority over a portion of that line, between milepost 112.67 and milepost 114.26, and, once abandonment has been authorized, it intends to deed the abandoned segment to the City for public use. C&G states that the City intends to deed the bypass track and attendant properties to it, which will be an equal exchange and allow the City to reach its goal of moving rail operations out of the City's central commercial area. C&G also states that it will gain a more efficient and safer main line operation over the bypass track.

C&G certifies that its projected annual revenues as a result of this transaction will not result in the creation of a Class I or Class II rail carrier, and that its annual revenues will not exceed $5 million.

The transaction was scheduled to be consummated after March 30, 2005, the effective date of the exemption (7 days after the exemption was filed).²

² On March 30, 2005, Morris Recycling, Inc. (Morris), filed petitions to stay and to revoke the transaction. On April 8, 2005, C&G responded, and, on April 14, 2005, Morris filed a petition for leave to file a reply and a reply to C&G's reply. These filings will be addressed in a separate Board decision.

If the notice contains false or misleading information, the exemption is void ab initio. Petitions to revoke the exemption under 49 U.S.C. 10502(d) may be filed at any time. The filing of a petition to revoke will not automatically stay the transaction.

An original and 10 copies of all pleadings, referring to STB Finance Docket No. 34666, must be filed with the Surface Transportation Board, 1925 K Street, NW., Washington, DC 20423-0001. In addition, one copy of each pleading must be served on H. Lynn Gibson, 201 19th Street North, P.O. Box 6000, Columbus, MS 39703.

Board decisions and notices are available on our Web site at http://www.stb.dot.gov.

Decided: April 18, 2005.
By the Board, David M. Konschnik, Director, Office of Proceedings.
Vernon A. Williams,
Secretary.

[FR Doc. 05-8089 Filed 4-21-05; 8:45 am]

BILLING CODE 4915-01-P